DEPARTMENT OF EDUCATION

RIN 1820 ZA36

National Institute on Disability and Rehabilitation Research

AGENCY: Office of Special Education and Rehabilitative Services, Department of Education.

ACTION: Notice of final priorities for knowledge dissemination and utilization projects.

SUMMARY: The Assistant Secretary for Special Education and Rehabilitative Services announces two knowledge dissemination and utilization (KDU) priorities under the National Institute on Disability and Rehabilitation Research (NIDRR) Disability and Rehabilitation Research Projects (DRRP) program. The Assistant Secretary may use these priorities for competitions in fiscal year (FY) 2005 and later years. We take this action to focus attention on an identified national need. We intend these priorities to improve rehabilitation outcomes for individuals with disabilities.

EFFECTIVE DATE: These priorities are effective June 6, 2005.

FOR FURTHER INFORMATION CONTACT: Donna Nangle, U.S. Department of Education, 400 Maryland Avenue, SW., room 6030, Potomac Center Plaza, Washington, DC 20202-2700. Telephone: (202) 245-7462 or via Internet: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP program is to plan and conduct research, demonstration projects, training, and related activities that help to maximize the full inclusion and integration of individuals with disabilities into society and to improve the effectiveness of services authorized under the Rehabilitation Act of 1973, as amended (Act).

Under the DRRP program, we define a development activity as using knowledge and understanding gained from research to create materials, devices, systems, or methods beneficial to the target population, including design and development of prototypes and processes (34 CFR 350.16). We define a dissemination activity as the systematic distribution of information or knowledge through a variety of ways to potential users or beneficiaries (34 CFR 350.18). We define a technical assistance activity as the provision of expertise or information for use in problem-solving (34 CFR 350.19).

Background

KDU projects ensure widespread distribution, in usable formats, of practical scientific and technological information generated by research, development, and demonstration projects. The effective dissemination and utilization of disability and rehabilitation research results are critical to achieving NIDRR's mission. Research findings can improve the quality of life of people with disabilities and further their full inclusion into society. These benefits are feasible only if the findings and technologies are available to, known by, and accessible to potential users.

NIDRR is particularly interested in ensuring that information to be disseminated is of high quality and is based on scientifically rigorous research and development and that potential users have the information they need to judge the quality of research and development findings and products and the relevance of these findings and products to their particular needs. End-users with limited scientific training, in particular, may need assistance in order to understand competing research claims or determine the relevance of particular findings to their individual situations. In addition, given the nature of scientific study, practical information often is based on cumulative knowledge, not upon the results of any one study. Therefore, we encourage potential applicants to examine procedures used by such organizations as the Campbell Collaboration (http://www.campbellcollaboration.org/), the Cochrane Collaboration (http://www.cochrane.org/), and the Department of Education What Works Clearinghouse (http://www.w-w-c.org/) when designing synthesis and dissemination activities. NIDRR is committed to establishing high-quality procedures for the dissemination of information from rehabilitation and disability research and development projects and will be working, together with its grantees, to identify standards to guide its work in this area.

Analysis of Comments and Changes

We published a notice of proposed priorities (NPP) for this program in the Federal Register on August 27, 2004 (69 FR 52651). This notice of final priorities (NFP) contains a number of substantive differences from the NPP. We discuss these changes in the Analysis of Comments and Changes section published as an appendix to this notice. After further review of the structure of the priority language in the NPP, we believe that it would be clearer to characterize the requirements under the topic areas as separate priorities rather than topic areas. This change in the structure of the priority language does not substantively change the requirements proposed in the NPP.

Note: This notice does not solicit applications. In any year in which we choose to use either of these final priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom/.

These final priorities are in concert with NIDRR's 1999-2003 Long-Range Plan (Plan). The Plan is comprehensive and integrates many issues relating to disability and rehabilitation research topics. While applicants will find many sections throughout the Plan that support the activities to be conducted under these final priorities, specific references to the topics of the priorities are included elsewhere in this notice. The Plan can be accessed on the Internet at the following site: http://www.ed.gov/rschstat/research/pubs/index.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priorities

The Assistant Secretary for Special Education and Rehabilitative Services will use two priorities, Priority #1—International Exchange of Information and Experts in Disability and Rehabilitation Research and Priority #2—Innovative KDU for Disability and Professional Organizations and Stakeholders, to fund up to two DRRPs to identify or develop dissemination methods and provide technical assistance that focus on innovative knowledge sharing solutions to improve the lives of persons with disabilities. The goal of the KDU projects is to provide end-users with the information they need to make choices based on high-quality scientific research and development. Under each of these priorities, the KDU project, in consultation with the NIDRR project officer, must:

(1) Identify topic areas and target audiences, which must include people with disabilities and their families;

(2) Help NIDRR identify standards to guide the systematic review and synthesis of disability and rehabilitation research and development studies;

(3) Help NIDRR identify research syntheses in selected topic areas and make this information available, in preferred formats, to the target audiences; and

(4) Help NIDRR identify or develop effective and cost-effective outreach strategies to provide target audiences with evidence-based information, and determine whether and how the information is used.

In carrying out these requirements within either priority, each KDU project also must:

• Involve, as appropriate, individuals with disabilities or their family members, or both, in all aspects of the design and development of dissemination activities;

• Demonstrate how the project will yield measurable results for people with disabilities;

• Identify specific performance targets and propose outcome indicators, along with timelines to reach these targets; and

• Coordinate with other NIDRR-funded KDU projects as identified through consultation with the NIDRR project officer.

A project must focus on one of the following priority areas:

Priority 1—International Exchange of Information and Experts in Disability and Rehabilitation Research: The purpose of a project under this priority is to improve the exchange of disability and rehabilitation research and development information between the United States and other countries in order to develop new knowledge and methods in the rehabilitation of individuals with disabilities in the United States, share information found useful in other nations, and increase the skill levels of rehabilitation personnel. Under this priority, the KDU project must:

• Develop innovative methods for compiling and exchanging information between the United States and other nations on rehabilitation research and development, as well as information on disability policies that maximize the full inclusion, social integration, employment, and independent living of individuals of all ages with disabilities.

• Provide targeted outreach to and obtain insight from sources such as researchers; consumers; and voluntary, non-profit, and philanthropic organizations that are operating programs related to disability and rehabilitation research in other nations.

• Conduct at least one rehabilitation research information conference per funding cycle involving participants from the United States and other countries to provide state-of-the-art information on international rehabilitation research efforts and policies that affect people with disabilities.

• Conduct an international exchange of researchers and technical assistance experts between other countries and the United States to provide firsthand experiences in cross-cultural communication and to form alliances for collaborative research or information sharing.

The reference to the topic of this priority may be found in the Plan, Chapter 10, Enhancing NIDRR's Management of Research.

Priority 2—Innovative KDU for Disability and Professional Organizations and Stakeholders: The purpose of a project under this priority is to disseminate information on disability and rehabilitation research and development findings to a particular constituency by using organizations that serve that constituency as intermediaries. Such organizations, because they have established strategies for providing information to their constituencies—e.g., conferences, newsletters, and workshops—may represent an effective means of dissemination. Under this priority, the KDU project must:

• Produce information digests that will be suitable for further dissemination through the partner organizations.

• Be knowledgeable about the target audiences represented by the organizations.

• Develop innovative means of communication with the community served by the organizations.

• Serve as an information conduit for interactive discussions with the organizations that will help inform future NIDRR research priorities and disseminate the findings of NIDRR-sponsored research.

The reference to the topic of this priority may be found in the Plan, Chapter 8, Knowledge Dissemination and Utilization, and Chapter 10, Enhancing NIDRR's Management of Research.

Executive Order 12866

This NFP has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the final priorities justify the costs.

Summary of potential costs and benefits: The potential costs associated with these final priorities are minimal, while the benefits are significant. Grantees may incur some costs associated with completing the application process in terms of staff time, copying, and mailing or delivery. The use of e-Application technology reduces mailing and copying costs significantly.

The benefits of the DRRP Program have been well established over the years. Similar projects have been completed successfully and have produced findings that help improve the lives of individuals with disabilities. These final priorities will generate new strategies for disseminating findings from disability and rehabilitation research and development that will improve the full integration of individuals with disabilities into society.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Projects Program)

Program Authority: 29 U.S.C. 762(g) and 764(a).

Dated: April 29, 2005.
John H. Hager,
Assistant Secretary for Special Education and Rehabilitative Services.

Appendix—Analysis of Comments and Changes

In response to our invitation in the NPP, we received nine comments. An analysis of the comments and of the changes in the priorities since publication of the NPP follows. We discuss substantive issues that apply to both priorities under the heading General and other substantive issues under the title of the priority to which they pertain.

Generally, we do not address technical and other minor changes and suggested changes we are not authorized to make under the applicable statutory authority.

General

Comment: Four commenters suggested that combining the requirements for drafting standards and conducting research syntheses would be problematic because it could lead to the development of conflicting standards and dissemination of conflicting information through different forms of media.

Discussion: NIDRR agrees that coordinated efforts among relevant agencies, groups, and organizations are needed. NIDRR also believes that it is appropriate to add the term “identify” to the priority requirements in recognition of the many effective KDU strategies in use for research and development products.

Change: The third activity has been deleted and the second, fourth, and fifth activities, which are now the second, third, and fourth activities, have been changed so they read: “Help NIDRR identify standards”, “Help NIDRR identify research syntheses” and, “Help NIDRR identify or develop effective and cost-effective outreach strategies.” In addition, a bullet has been added to the additional requirements to “Coordinate with other NIDRR funded KDU projects.” NIDRR anticipates that a national KDU technical assistance project (which it plans to fund under a separate priority that is being proposed in a notice of proposed priority published elsewhere in this issue of the Federal Register) will help projects with the tasks outlined in these priorities and lessen the possibility of conflicting evidence grading methods or duplication of efforts.

Comment: One commenter believes that a three-year project period for a funded KDU project under one of these priorities would be too short to accomplish the tasks outlined in the proposed priorities.

Discussion: The length of the project period is not part of the NPP and therefore is not subject to public comment.

Change: None.

Comment: One commenter suggested that the KDU projects funded under these priorities should be required to coordinate standards development and topic selection, along with a steering committee not associated with a particular discipline. The commenter also suggested that an outside committee be a part of the coordination of standards development and topic selection process to avoid the appearance of bias.

Discussion: As revised, these priorities now require applicants to help NIDRR identify standards and develop technical assistance in the use of the standards. NIDRR anticipates that the national KDU technical assistance project, which NIDRR intends to fund under a separate priority that is being proposed in a notice of proposed priority published elsewhere in this issue of the Federal Register, will help projects with the tasks outlined in these priorities and improve coordination of NIDRR KDU activities. Applicants can propose coordinated efforts. The peer review process will evaluate the merits of the activities proposed.

Change: None.

Comment: One commenter proposed that there be only one center for standards development, coordination, and technical evidence synthesis products and that this one center should involve a range of stakeholders.

Discussion: NIDRR anticipates that the national KDU technical assistance project, which it intends to fund under a separate priority that is being proposed in a notice of proposed priority published elsewhere in this issue of the Federal Register, will help NIDRR and its grantees address issues relating to the identification of standards, and the development of evidence-based synthesis products.

Change: None.

Comment: None.

Discussion: The term “evidence-based” is a generally accepted technical term that is widely used in the field of disability and rehabilitation research in reference to the assessment of the quality of research findings. Information for readers who are interested in this topic may be found on numerous internet sites including: http://www.excelgov.org/display content.asp?keyword=prppc HomePage and http://www.ncddr.org/du/ researchexchange/ v08n02/.

Change: In order to make the goals of these priorities to provide end-users with high-quality scientific research and development more understandable, the term “evidence-based” has been substituted for the term “research-based” in #4 of the general requirements.

Comment: Commenters expressed concern that the priority areas emphasized by NIDRR in the NPP are really means of dissemination rather than areas of focus. In addition, one commenter felt that it would better serve NIDRR's purpose to have each KDU project include all methods of dissemination established under the priorities.

Discussion: NIDRR's KDU projects and activities address a wide range of topics and methods. The priorities in this notice as well as ongoing and possible future activities reflect this range. This notice includes both general requirements common to all projects applying for funding under one of the priorities as well as specific methods and target audiences required under each individual priority. The peer review process will evaluate the merits of the approaches proposed.

Change: None.

Comment: One commenter felt that it is not beneficial to “serve only one particular constituency and one organization.” Due to the multi-disciplinary nature of rehabilitation research and the type of expertise resident in NIDRR's large centers, such as Rehabilitation Research and Training Centers and Rehabilitation Engineering Research Centers, this would be detrimental.

Discussion: Nothing in these priorities requires a KDU project to serve a single constituency and organization. Applicants can propose working with certain disability organizations or groups of organizations. The peer review will evaluate the merits of the approaches proposed in each application.

Change: None.

Comment: One commenter suggested that the priority for the professional organization and stakeholder group should take the lead in coordinating activities among the priorities.

Discussion: NIDRR believes that there is no basis for giving one project funded under these priorities a special role in coordination. The national KDU project, which NIDRR intends to fund under a separate priority that is being proposed in a notice of proposed priority published elsewhere in this issue of the Federal Register, will provide needed coordination among these and other NIDRR grantees.

Change: None.

Dissemination Using the Mainstream Media

Comment: Three commenters expressed support for this priority and strongly urged NIDRR to fund a priority to increase the use of the mainstream media for dissemination.

Discussion: NIDRR takes note of the support for this priority, but has decided not to finalize the Dissemination Using the Mainstream Media priority in this notice.

Change: We are not including the Dissemination Using the Mainstream Media priority in this notice.

International Exchange of Information and Experts in Rehabilitation and Independent Living

Comment: One commenter stressed the need for the proposed international exchange activity to benefit the field of rehabilitation in the United States.

Discussion: We agree with the commenter that the proposed international exchange activity must benefit the field of rehabilitation in the United States. However, no change is necessary because we believe the wording of the priority already clearly states this requirement.

Change: None.

Comment: One commenter suggested that rather than name the types of organizations that might be involved in international exchanges, more general language should be used.

Discussion: The language was not meant to restrict the individuals, agencies, or organizations with which the applicant might propose to work.

Change: The second activity bullet under this priority has been changed to include the words “sources such as” before the illustrative list of individuals and organizations with which applicants may work.

Comment: One commenter suggested that the title of the proposed priority not use the term “independent living” which may have different meanings in other cultures. In addition, the commenter suggested that the use of this term may limit information from other areas of the Plan, such as Health and Function, Employment, Technology, etc.

Discussion: NIDRR believes independent living is an important area for inclusion in international literature. In including independent living in the title of the priority, NIDRR did not intend to limit the areas of research or exchange that might be proposed. The applicant can propose a project relating to any of the areas in the Plan. To address the concern expressed in comments that specifying independent living in the priority title may give disproportionate attention to that topic, a more general title will be used. The peer review process will evaluate the merits of the approaches proposed in each application.

Changes: The title of this priority has been changed to read “International Exchange of Information and Experts in Disability and Rehabilitation Research.”

Innovative KDU for Disability and Professional Organizations and Stakeholders

Comment: One commenter expressed strong support for the proposed priority on “Innovative KDU for Disability and Professional Organizations and Stakeholders.”

Discussion: NIDRR takes note of this support.

Change: None.

Comment: One commenter suggested that evidence-based products developed by and for a single professional or consumer organization might be considered biased. It was suggested that the language be changed from “particular constituency” to “relevant constituency” or “stakeholder constituencies.”

Discussion: NIDRR believes that the word “particular adequately describes the intent of this priority. The peer review process will evaluate the merits of the approaches proposed.

Change: None.

[FR Doc. 05-8997 Filed 5-4-05; 8:45 am]

BILLING CODE 4000-01-P